DEPARTMENT OF AGRICULTURE

U.S. Codex Office

Codex Alimentarius Commission: Meeting of the Codex Committee on Food Labelling

AGENCY: U.S. Codex Office, USDA.

ACTION: Notice of public meeting and request for comments.

SUMMARY: The U.S. Codex Office is sponsoring a public meeting on October 9, 2024. The objective of the public meeting is to provide information and receive public comments on agenda items and draft U.S. positions to be discussed at the 48th Session of the Codex Committee on Food Labelling (CCFL48) of the Codex Alimentarius Commission (CAC). CCFL48 will be held in Quebec City, Canada, from October 27-November 1, 2024. The U.S. Manager for Codex Alimentarius and the Under Secretary for Trade and Foreign Agricultural Affairs recognize the importance of providing interested parties the opportunity to obtain background information on the 48th Session of the CCFL and to address items on the agenda.

DATES: The public meeting is scheduled for October 9, 2024, from 1-4 p.m. ET.

ADDRESSES: The public meeting will take place via Video Teleconference only. Documents related to the 48th Session of the CCFL will be accessible via the internet at the following address: https://www.fao.org/fao-who-codexalimentarius/meetings/detail/en/?meeting=CCFL&session=48.

Dr. Douglas Balentine, U.S. Delegate to the 48th Session of the CCFL, invites interested U.S. parties to submit their comments electronically to the following email address: douglas.balentine@fda.hhs.gov.

Registration: Attendees may register to attend the public meeting here: https://www.zoomgov.com/meeting/register/vJItdeGspz4sGTffT2fy17VYU0VHQWyD2eg. After registering, you will receive a confirmation email containing information about joining the meeting.

For further information about the 48th Session of the CCFL, contact U.S. Delegate, Dr. Douglas Balentine, Senior Science Advisor, International Nutrition Policy, Center for Food Safety and Applied Nutrition, U.S. Food and Drug Administration, 5001 Campus Drive (HFS-830), College Park, MD 20740; phone: +1 (240) 672-7292; email: douglas.balentine@fda.hhs.gov. For further information about the public meeting, contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Food Labelling (CCFL) are:

(a) to draft provisions on labeling applicable to all foods;

(b) to consider, amend if necessary, and endorse draft specific provisions on labeling prepared by the Codex Committees drafting standards, codes of practice and guidelines;

(c) to study specific labeling problems assigned to it by the Commission; and

(d) to study problems associated with the advertisement of food with particular reference to claims and misleading descriptions.

The CCFL is hosted by Canada. The United States attends the CCFL as a member country of Codex.

Issues To Be Discussed at the Public Meeting

The following items from the agenda for the 48th Session of the CCFL will be discussed during the public meeting:

• Matters referred to the Committee by the Codex Alimentarius Commission and/or its subsidiary bodies

• Matters of interest from FAO and WHO

• Consideration of labeling provisions in draft Codex Standards (endorsement)

• Food allergen labeling

• Revision to the General Standard for the Labelling of Pre-packaged Foods (CXS 1-1985): Provisions relevant to allergen labeling

• Guidelines on the use of precautionary allergen labeling

• Guidelines on the provision of food information for pre-packaged foods to be offered via e-commerce

• Guidelines on the use of technology to provide food information in food labeling

• Amendments to the General Standard for the Labelling of Pre-packaged Foods (CXS 1-1985): Provisions relevant to joint presentation and multipack formats

• Discussion Papers on the following:

○ Labeling of alcoholic beverages

○ Application of food labeling provisions in emergencies

○ Trans fatty acids (TFAs)

○ Sustainability labeling claims

○ Sugar Labeling—definition for “added sugars”

• Future work and emerging issues

• Approach and criteria for evaluation and prioritization of the work of CCFL

• Other business

Public Meeting

At the October 9, 2024, public meeting, draft U.S. positions on the agenda items will be described and discussed, and attendees will have the opportunity to pose questions and offer comments. Written comments may be offered at the meeting or sent to Dr. Douglas Balentine, U.S. Delegate to the 48th Session of the CCFL, at douglas.balentine@fda.hhs.gov. Written comments should state that they relate to activities of the 48th Session of the CCFL.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on August 6, 2024.
Julie A. Chao,
Deputy U.S. Manager for Codex Alimentarius.

[FR Doc. 2024-17772 Filed 8-8-24; 8:45 am]

BILLING CODE 3420-3F-P